DEPARTMENT OF VETERANS AFFAIRS

[OMB Control No. 2900-0051]

Agency Information Collection Activity Under OMB Review: State Approving Agency Reports and Notices

AGENCY: Veterans Benefits Administration, Department of Veterans Affairs.

ACTION: Notice.

SUMMARY: In compliance with the Paperwork Reduction Act (PRA) of 1995 this notice announces that the Veterans Benefits Administration (VBA), Department of Veterans Affairs, will submit the collection of information abstracted below to the Office of Management and Budget (OMB) for review and comment. The PRA submission describes the nature of the information collection and its expected cost and burden; it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0051.

FOR FURTHER INFORMATION CONTACT: Danny S. Green, Enterprise Records Service (005R1B), Department of Veterans Affairs, 810 Vermont Avenue NW, Washington, DC 20420, (202) 421-1354 or email danny.green2@va.gov. Please refer to “OMB Control No. 2900-0051” in any correspondence.

SUPPLEMENTARY INFORMATION: Authority: 38 CFR 21.4154, 21.4250(b), 21.4258, 21.4259: 38 CFR 21.4154 which, addresses reporting SAA activities (38 U.S.C. 3674(c)), 38 CFR 21.4250(b) which addresses notices of approvals, suspension of approvals, and disapprovals (38 U.S.C. 3678, 3679), 38 CFR 21.4258 which addresses notices of approvals, and 38 CFR 21.4259 which addresses notices of suspension or disapproval.

Title: State Approving Agency Reports and Notices.

OMB Control Number: 2900-0051.

Type of Review: Revision of a currently approved collection.

Abstract: Information collected under 38 CFR 21.4154—The SAA reports its activities to VA quarterly. The SAA does so electronically by completing a web-based screen. VA uses the information in the reports to support the reimbursement of activities of the SAA.

Information collected under 38 CFR 21.4250(b), 21.4258, and 21.4259—The SAA prepares notices of approval to inform educational institutions, training establishments, and organizations or entities that their courses, training, or tests are not approved or the approval of previously approved courses, training, or tests is suspended. The SAA must also send VA a copy of each of these notices. There are 57 SAAs, each with its own jurisdiction for approval of courses, training, or tests. Some States have more than one SAA because one internal agency is responsible for schools, another for workplace training. Additionally, the District of Columbia, Puerto Rico and the U.S. Virgin Islands have authorized SAA jurisdictions.

The SAA approves, disapproves, or suspends program approval based on the criteria in 38 U.S.C. chapter 36. Some of the criteria used in these determinations include site visits; and review of course materials, training programs, instructors' credentials, or review of tests for licensure and certification.

VA uses the approval notice information (or lack thereof) to determine if payment of educational assistance is appropriate. Under 38 U.S.C. 3680, VA may not provide educational assistance to any eligible veteran or eligible person if his or her educational program or training program does not meet the requirements of 38 U.S.C. 3670 et seq. Without these notices, VA would not know which programs the SAA determined met the criteria in 38 U.S.C. chapter 36. Without disapproval notices, or notices of suspended approval, VA would make inappropriate payments to Veterans and their dependents. 38 CFR 21.4258(a) requires the SAA list individual programs approved in the notice. This requirement is needed since not all courses/programs an educational institution provides are approvable under 38 U.S.C. chapter 36. For example, some schools offer courses that are recreational in nature. Payment for recreational courses is prohibited under 38 U.S.C. 3680A. Listing approved courses in the notice ensures VA pays educational assistance for only those courses/programs approved.

An agency may not conduct or sponsor, and a person is not required to respond to a collection of information unless it displays a currently valid OMB control number. The Federal Register Notice with a 60-day comment period soliciting comments on this collection of information was published at 85 FR 80 on April 24, 2020, page 23139.

Affected Public: Individuals or households.

Estimated Annual Burden: 68,043 hours.

Estimated Average Burden per Respondent: 15 hours.

Frequency of Response: Once Quarterly.

Actual Number of Respondents: 4,578.

By direction of the Secretary.
Danny S. Green,
VA Clearance Officer, Office of Quality, Performance and Risk, Department of Veterans Affairs.

[FR Doc. 2020-18694 Filed 8-25-20; 8:45 am]

BILLING CODE 8320-01-P